DEPARTMENT OF HEALTH AND HUMAN SERVICES

Food and Drug Administration

21 CFR Parts 129 and 165

[Docket No. FDA-2008-N-0446]

Beverages: Bottled Water; Correction

AGENCY: Food and Drug Administration, HHS.

ACTION: Final rule; correction.

SUMMARY: The Food and Drug Administration (FDA) is correcting a final rule that appeared in the Federal Register of Friday, May 29, 2009 (74 FR 25651). The final rule was published with an inadvertent error in the “Analysis of Impacts” section. This document corrects that error.

DATES: This correction is effective: June 25, 2009.

FOR FURTHER INFORMATION CONTACT: Lauren Posnick Robin, Center for Food Safety and Applied Nutrition (HFS-317), Food and Drug Administration, 5100 Paint Branch Pkwy., College Park, MD 20740-3835, 301-436-1639.

SUPPLEMENTARY INFORMATION: In FR Doc. E9-12494, appearing on page 25651 in the Federal Register of Friday, May 29, 2009, the following correction is made:

On page 25656, in the third column, in the first complete paragraph, beginning in the fifth line, the sentence “Because the costs per entity of this rule are small, the agency certifies that the final rule will not have a significant economic impact on a substantial number of small entities.” is corrected to read “Because the costs per entity of this rule are small, the agency believes that the final rule will not have a significant economic impact on a substantial number of small entities.”

Dated: June 19, 2009.
Jeffrey Shuren,
Associate Commissioner for Policy and Planning.

[FR Doc. E9-14981 Filed 6-24-09; 8:45 am]

BILLING CODE 4160-01-S